FEDERAL COMMUNICATIONS COMMISSION

[Report No. 2861]

Petitions for Reconsideration of Action in Rulemaking Proceeding

April 11, 2008.

Petitions for Reconsideration have been filed in the Commission's Rulemaking proceeding listed in this Public Notice and published pursuant to 47 CFR Section 1.429(e). The full text of these documents is available for viewing and copying in Room CY-B402, 445 12th Street, SW., Washington, DC or may be purchased from the Commission's copy contractor, Best Copy and Printing, Inc. (BCPI) (1-800-378-3160). Oppositions to these petitions must be filed by May 6, 2008. See Section 1.4(b)(1) of the Commission's rules (47 CFR 1.4(b)(1)). Replies to oppositions must be filed within 10 days after the time for filing oppositions have expired.

Subject: In the Matter of 2006 Quadrennial Regulatory Review—Review of the Commission's Broadcast Ownership Rules and Other Rules Adopted Pursuant to Section 202 of the Telecommunications Act of 1996 (MB Docket No. 06-121).

Number of Petitions Filed: 1.

Subject: In the Matter of The Commission's Cable Horizontal and Vertical Ownership Limits (MM Docket No. 92-264).

Implementation of Section 11 of the Cable Television Consumer Protection and Competition Act of 1992 (CS Docket No. 98-82).

Implementation of Cable Act Reform Provision of the Telecommunications Act of 1996 (CS Docket No. 96-85).

Review of the Commission's Regulations Governing Attribution of Broadcast and Cable/MDS Interests (MM Docket No. 94-150).

Review of the Commission's Regulation and Policies Affecting Investments in the Broadcast Industry (MM Docket No. 92-51).

Reexamination of the Commission's Cross-Interest Policy (MM Docket No. 87-154).

Number of Petitions Filed: 1.

Marlene H. Dortch,
Secretary.

[FR Doc. E8-8488 Filed 4-18-08; 8:45 am]

BILLING CODE 6712-01-P